CONSUMER PRODUCT SAFETY COMMISSION

[Petition HP 07-1]

Petition for Labeling Amendment of Blasting Caps

AGENCY: Consumer Product Safety Commission.

ACTION: Notice.

SUMMARY: The United States Consumer Product Safety Commission (Commission or CPSC) has received a petition (HP 07-1) requesting that the Commission amend its regulation under the Federal Hazardous Substances Act (FHSA) to allow the use of the term “detonator” to be used interchangeably with the term “blasting cap.” The Commission solicits written comments concerning the petition.¹

¹ Commissioner Thomas H. Moore filed a statement which is available from the Office of the Secretary or on the Commission's Web site at http://www.cpsc.gov.

DATES: The Office of the Secretary must receive comments on the petition by February 12, 2007.

ADDRESSES: Comments on the petition may be filed by e-mail to cpsc-os@cpsc.gov. Comments may also be filed by facsimile to (301) 504-0127, or delivered or mailed, preferably in five copies, to the Office of the Secretary, Consumer Product Safety Commission, 4330 East West Highway, Bethesda, MD 20814, telephone (301) 504-7923. Comments should be captioned “Petition HP 07-1, Petition Requesting Labeling Amendment of Blasting Caps.” The petition is available on the CPSC Web site at http://www.cpsc.gov. A request for a hard copy of the petition may be directed to the Office of the Secretary.

FOR FURTHER INFORMATION CONTACT: Rockelle Hammond, Office of the Secretary, Consumer Product Safety Commission, 4330 East West Highway, Bethesda, MD 20814; telephone (301) 504-6833, e-mail rhammond@cpsc.gov.

SUPPLEMENTARY INFORMATION: The Institute of Makers of Explosives (IME) submitted correspondence requesting that the Commission amend its regulation at 16 CFR 1500.83(a)(35), to allow the use of the term “detonator” to be used interchangeably with the term “blasting cap.” IME requests the addition of the term “detonator” to the regulation as follows (added text is underlined):

Individual detonators or blasting caps are exempt from bearing the statement “Keep out of the reach of children,” or its practical equivalent, if:

(i) Each detonator or cap bears conspicuously in the largest type size practicable the statement “DANGEROUS—BLASTING CAPS—EXPLOSIVE” or “DANGEROUS—DETONATOR—EXPLOSIVE”;

IME states that the terms “detonator” and “blasting cap” are generally synonymous in the explosive community. IME asserts that the term “detonator” may be interpreted as being more inclusive and is more commonly used than the term “blasting cap.” In order to minimize the possibility that an individual may not take recommended precautions when handling initiating devices, IME states that it has encouraged the use of the term “detonator” instead of the term “blasting cap” whenever possible. According to IME, there is no practical benefit to requiring the use of both the term “detonator” and “blasting cap” on printed warnings given the limited space available on small detonators. IME also does not believe there is any practical benefit to replacing the term “blasting cap” with “detonator” at this time.

Interested parties may obtain a copy of the petition on the CPSC Web site at http://www.cpsc.gov or by writing or calling the Office of the Secretary, Consumer Product Safety Commission, 4330 East West Highway, Bethesda, MD 20814; telephone (301) 504-7923.

Dated: December 6, 2006.
Todd A. Stevenson,
Secretary, Consumer Product Safety Commission.

[FR Doc. E6-21023 Filed 12-11-06; 8:45 am]

BILLING CODE 6355-01-P